COMMISSION ON CIVIL RIGHTS

Notice of Public Meeting of the North Dakota Advisory Committee

AGENCY: Commission on Civil Rights.

ACTION: Announcement of meeting.

SUMMARY: Notice is hereby given, pursuant to the provisions of the rules and regulations of the U.S. Commission on Civil Rights (Commission) and the Federal Advisory Committee Act (FACA), that a meeting of the North Dakota Advisory Committee to the Commission will convene by conference call on Wednesday, May 26, 2021 at 11:00 a.m. (CT). The purpose is to review a statement on hates crimes and to discuss and vote on a report on fair housing.

DATES: Wednesday, May 26, 2021 at 11:00 a.m. (CT).

ADDRESSES: Public Webex Conference Registration Link (video and audio): https://bit.ly/32rEvir; password (if necessary): USCCR-ND-MAY2020.

To Join by Phone Only: Dial 1-800-360-9505; Access code: 199 587 4894.

FOR FURTHER INFORMATION CONTACT: Evelyn Bohor at ero@usccr.gov or by phone at 202-921-2212.

SUPPLEMENTARY INFORMATION: This meeting is available to the public through the WebEx link above. If joining only via phone, callers can expect to incur charges for calls they initiate over wireless lines, and the Commission will not refund any incurred charges. Individuals who are deaf, deafblind and hard of hearing may also follow the proceedings by first calling the Federal Relay Service at 1-800-877-8339 and providing the Service with the call-in number found through registering at the web link provided above for the meeting.

Members of the public are entitled to make comments during the open period at the end of the meeting. Members of the public may also submit written comments; the comments must be received in the Regional Programs Unit within 30 days following the respective meeting. Written comments may be emailed to Barbara Delaviez at ero@usccr.gov. All written comments received will be available to the public.

Persons who desire additional information may contact the Regional Programs Unit at (202) 809-9618. Records and documents discussed during the meeting will be available for public viewing as they become available at the www.facadatabase.gov. Persons interested in the work of this advisory committee are advised to go to the Commission's website, www.usccr.gov, or to contact the Regional Programs Unit at the above phone number or email address.

Agenda

Wednesday, May 26, 2021; 11:00 a.m. (CT)

1. Roll call

2. Review/Vote Statement on Hate Crimes

3. Discuss/Vote on Fair Housing Report

4. Next Steps

5. Public Comment

6. Other Business

7. Adjourn

Dated: April 22, 2021.
David Mussatt,
Supervisory Chief, Regional Programs Unit.

[FR Doc. 2021-08780 Filed 4-26-21; 8:45 am]

BILLING CODE 6335-01-P